DEPARTMENT OF STATE

[Public Notice 6494]

Executive Order 11423, as Amended; Notice of Receipt of Application for a Presidential Permit for an International Rail Bridge on the U.S.-Mexico Border near Laredo, Texas, and Nuevo Laredo, Tamaulipas, Mexico

AGENCY: Department of State.

ACTION: Notice.

SUMMARY: The Department of State hereby gives notice that, on December 31, 2008, it received from Kansas City Southern (KCS) an application for a Presidential permit to authorize the construction, operation, and maintenance of a new international rail bridge called the East Loop Bypass on the U.S.-Mexico border near Laredo, Texas, and Nuevo Laredo, Tamaulipas, Mexico. According to the application, KCS is an international transportation company comprised of three railroads and owns and operates an existing railroad bridge in Laredo. The proposed railroad bridge would be about 12 miles south of the existing railroad bridge. According to the application, the East Loop Rail Bypass project would relocate rail traffic from the Laredo city center, provide for additional rail capacity, enhance corridor safety, and improve the efficiency of cross-border rail crossings. In addition to the international bridge itself, KCS proposes as part of the project to construct about 50 miles of track to connect the new bridge to existing rail lines.

The Department's jurisdiction over this application is based upon Executive Order 11423 of August 16, 1968, as amended. As provided in E.O. 11423, the Department is circulating this application to relevant federal and state agencies for review and comment. Under E.O. 11423, the Department has the responsibility to determine, taking into account input from these agencies and other stakeholders, whether issuance of a Presidential permit for this proposed bridge would be in the U.S. national interest.

DATES: Interested members of the public are invited to submit written comments regarding this application on or before April 28, 2009, to Mr. Daniel Darrach, U.S.-Mexico Border Affairs Coordinator, via e-mail at WHA-BorderAffairs@state.gov, or by mail at WHA/MEX—Room 3909, Department of State, 2201 C St., NW., Washington, DC 20520.

FOR FURTHER INFORMATION CONTACT: Mr. Daniel Darrach, U.S.-Mexico Border Affairs Coordinator, via e-mail at WHA-BorderAffairs@state.gov; by phone at 202-647-9894; or by mail at WHA/MEX—Room 3909, Department of State, 2201 C St., NW., Washington, DC 20520. General information about Presidential Permits is available on the Internet at http:/www.state.gov/pwha/rt/permit/.

SUPPLEMENTARY INFORMATION: This application and supporting documents are available for review in the Office of Mexican Affairs during normal business hours.

Dated: January 21, 2009.
Alex Lee,
Director, Office of Mexican Affairs, Department of State.

[FR Doc. E9-1725 Filed 1-27-09; 8:45 am]

BILLING CODE 4710-29-P